DEPARTMENT OF DEFENSE

Department of the Army

Availability for Non-Exclusive, Exclusive, or Partially Exclusive Licensing of U.S. Patent Concerning Live Attenuated Virus Vaccine for Western Equine Encephalitis Virus, Eastern Equine Encephalitis Virus, and Venezuelan Equine Encephalitis Virus IE and IIIA Variants.

AGENCY: U.S. Army Medical Research and Materiel Command, DOD.

ACTION: Notice.

SUMMARY: In accordance with 37 CFR 404.6, announcement is made for availability for licensing of U.S. Patent No. 6,261,570 entitled “Live Attenuated Virus Vaccine for Western Equine Encephalitis Virus, Eastern Equine Encephalitis Virus, and Venezuelan Equine Encephalitis Virus IE and IIIA Variants” and issued July 17, 2001. Foreign rights are also available (PCT/US98/10645). This patent has been assigned to the United States Government as represented by the Secretary of the Army.

ADDRESSES: Commander, U.S. Army Medical Research and Materiel Command, ATTN: Command Judge Advocate, MCMR-JA, 504 Scott Street, Fort Detrick, Frederick, Maryland 21702-5012.

FOR FURTHER INFORMATION CONTACT: For patent issues, Ms. Elizabeth Arwine, Patent Attorney (301) 619-7808. For licensing issues, Dr. Paul Mele, Office of Research & Technology Assessment, (301) 619-6664. Both at telefax (301) 619-5034.

SUPPLEMENTARY INFORMATION: cDNAs coding for an infectious Western Equine Encephalitis virus (WEE) and infectious Venezuelan Equine Encephalitis virus variant IR (VEE IE) are disclosed in addition to cDNA coding for the structural proteins of Venezuelan Equine Encephalitis virus variant IIIA (VEE IIIA). Novel attenuating mutations of WEE and VEE IE and their uses are described. Also disclosed are attenuated chimearic alphavirus and their uses.

Luz D. Ortiz,
Army Federal Register Liaison Officer.

[FR Doc. 01-24357 Filed 9-27-01; 8:45 am]

BILLING CODE 3710-08-M